DEPARTMENT OF TRANSPORTATION

Federal Aviation Administration

14 CFR Part 39

[Docket No. FAA-2020-0568; Project Identifier MCAI-2020-00505-A; Amendment 39-21148; AD 2020-13-03]

RIN 2120-AA64

Airworthiness Directives; XtremeAir GmbH Airplanes

AGENCY: Federal Aviation Administration (FAA), DOT.

ACTION: Final rule; request for comments.

SUMMARY: The FAA is superseding Airworthiness Directive (AD) 2018-07-15 for certain XtremeAir GmbH Model XA42 airplanes. This AD results from mandatory continuing airworthiness information (MCAI) issued by the aviation authority of another country to identify and correct an unsafe condition on an aviation product. The MCAI describes the unsafe condition as cracking of the diagonal struts of the engine mount frame with potential detachment of the engine from the airplane. The FAA is issuing this AD to require actions to address the unsafe condition on these products.

DATES: This AD is effective July 15, 2020.

The Director of the Federal Register approved the incorporation by reference of a certain publication listed in the AD as of July 15, 2020.

The FAA must receive comments on this AD by August 10, 2020.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact XtremeAir GmbH, Harzstrasse 2, Am Flughafen Cochstedt, D-39444 Hecklingen, Germany; phone: +49 39267 60999 0; fax: +49 39267 60999 20; email: info@xtremeair.de; internet: https://www.xtremeair.com. You may review copies of the referenced service information at the FAA, Airworthiness Products Section, Operational Safety Branch, 901 Locust, Kansas City, Missouri 64106. For information on the availability of this material at the FAA, call (816) 329-4148. It is also available on the internet at https://www.regulations.gov by searching for locating Docket No. FAA-2020-0568.

Examining the AD Docket

You may examine the AD docket on the internet at https://www.regulations.gov by searching for and locating Docket No. FAA-2020-0568; or in person at Docket Operations between 9 a.m. and 5 p.m., Monday through Friday, except Federal holidays. The AD docket contains this AD, any comments received, and other information. The street address for Docket Operations is listed above. Comments will be available in the AD docket shortly after receipt.

FOR FURTHER INFORMATION CONTACT: Jim Rutherford, Aerospace Engineer, FAA, Policy and Innovation Divsion, 901 Locust, Room 301, Kansas City, Missouri 64106; telephone: (816) 329-4165; fax: (816) 329-4090; email: jim.rutherford@faa.gov.

SUPPLEMENTARY INFORMATION:

Discussion

The FAA issued AD 2018-07-15, Amendment 39-19246 (83 FR 15036; April 9, 2018) (“AD 2018-07-15”) to address an unsafe condition on XtremeAir GmbH Model XA42 airplanes equipped with an engine mount part number XA42-7120-151. AD 2018-07-15 required repetitive inspections of the engine mount strut junction for cracks and was based on MCAI originated by an aviation authority of another country. The FAA issued AD 2018-07-15 to detect and address cracking of the engine mount frame, which could lead to detachment of the engine in-flight and result in loss of control.

Actions Since AD 2018-07-15 Was Issued

Since the FAA issued AD 2018-07-15, during a scheduled maintenance inspection of a Model XA42 airplane, an occurrence was reported of separation of both left-hand and right-hand diagonal struts of the engine mount frame.

The European Union Aviation Safety Agency (EASA), which is the Technical Agent for the Member States of the European Community, superseded its MCAI and issued EASA AD No. 2019-0239R1, dated December 18, 2019 (referred to after this as “the MCAI”), to correct this unsafe condition for XtremeAir GmbH Model XA42 airplanes. The MCAI states:

After that AD [EASA Emergency AD 2018-0050-E] was issued, during a scheduled maintenance inspection of an XA42 airplane, an occurrence was reported of separation of both left-hand and right-hand diagonal struts of the affected part.

This condition, if not detected and corrected, could lead to in-flight detachment of the engine, possibly resulting in loss of control of the airplane.

Prompted by this new finding, XtremeAir issued the SB [XtremeAir Service Bulletin SB-XA42-2019-008, Issue A.00] to provide limitations and inspection instructions. Consequently, EASA issued Emergency AD 2019-0239-E, retaining the requirements of EASA Emergency AD 2018-0050-E, which was superseded, reducing the inspection interval to each pre-flight check and requiring an Aircraft Flight Manual (AFM) limitation to prohibit aerobatic manoeuvers, and installation of a corresponding placard.

Since that AD was issued, the investigations were completed, and based on the outcome, XtremeAir revised the SB (now at revision B.00), providing instructions to accomplish the repetitive inspections at a different regime.

For the reason described above, this AD is revised accordingly to update the inspection interval, and to allow the removal of the prohibition to accomplish aerobatic manoeuvers.

This AD is still considered an interim action and further AD action may follow.

You may examine the MCAI on the internet at https://www.regulations.gov by searching for and locating Docket No. FAA-2020-0568.

Relative Service Information Under 1 CFR Part 51

The FAA reviewed XtremeAir GmbH Mandatory Service Bulletin SB-XA42-2019-008, Issue B.00, dated December 4, 2019. The service information contains procedures for inspection of the area of the junction of the left-hand and right-hand diagonal struts of the engine mount, forward of the oil cooler, for cracks. This service information is reasonably available because the interested parties have access to it through their normal course of business or by the means identified in the ADDRESSES section.

FAA's Determination and Requirements of the AD

This product has been approved by the aviation authority of another country, and is approved for operation in the United States. Pursuant to the FAA's bilateral agreement with this State of Design Authority, it has notified the FAA of the unsafe condition described in the MCAI and service information referenced above. The FAA is issuing this AD because it evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because cracking of the engine mount frame could lead to in-flight detachment of the engine and result in loss of control of the airplane. AD 2018-07-15 only required an inspection of the left-hand diagonal strut. Since AD 2018-07-15 was issued, an occurrence was reported of separation of both the left-hand and right-hand diagonal struts of the engine mount frame. The additional inspection required by this AD is necessary to detect cracks in the right-hand diagonal strut of the engine mount frame. Therefore, the FAA finds that notice and opportunity for public comment before issuing this AD are impracticable. In addition, for the reasons stated above, the FAA finds that good cause exists for making this amendment effective in fewer than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2020-0568; Project Identifier MCAI-2020-00505-A” at the beginning of your comments. The FAA specifically invites comments on the overall regulatory, economic, environmental, and energy aspects of this AD. The FAA will consider all comments received by the closing date and may amend this AD because of those comments.

The FAA will post all comments we receive, without change, to https://www.regulations.gov, including any personal information you provide. The FAA will also post a report summarizing each substantive verbal contact received about this AD.

Costs of Compliance

The FAA estimates that this AD will affect 16 products of U.S. registry. The FAA also estimates that it will take 0.5 work-hour per product per inspection cycle to inspect the diagonal struts of the engine mount. The average labor rate is $85 per work-hour. Required parts would cost about $0 per product.

Based on these figures, the FAA estimates the cost of the inspection on U.S. operators to be $680.00 or $42.50 per product per inspection cycle.

In addition, the FAA estimates that replacing an engine mount, if necessary, will take 24 work-hours and require parts costing $5,000, for a cost of $7,040 per product. The FAA has no way of determining the number of products that may need this action.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: general requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Flexibility Act

The requirements of the Regulatory Flexibility Act (RFA) do not apply when an agency finds good cause pursuant to 5 U.S.C. 553 to adopt a rule without prior notice and comment. Because FAA has determined that it has good cause to adopt this rule without notice and comment, RFA analysis is not required.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2018-07-15, Amendment 39-19246 (83 FR 15036, April 9, 2018); and

b. Adding the following new AD:

2020-13-03 XtremeAir GmbH Airplanes: Amendment 39-21148; Docket No. FAA-2020-0568; Project Identifier MCAI-2020-00505-A.

(a) Effective Date

This airworthiness directive (AD) becomes effective July 15, 2020.

(b) Affected ADs

This AD replaces AD 2018-07-15, Amendment 39-19246 (83 FR 15036, April 9, 2018).

(c) Applicability

This AD applies to XtremeAir GmbH Model XA42 airplanes, all serial numbers, certificated in any category.

(d) Subject

Air Transport Association of America (ATA) Code 71: Power Plant.

(e) Reason

This AD was prompted by mandatory continuing airworthiness information (MCAI) issued by the aviation authority of another country to identify and address an unsafe condition on an aviation product. The MCAI describes the unsafe condition as cracking of the diagonal struts of the engine mount frame. The FAA is issuing this AD to prevent the in-flight detachment of the engine, which could result in loss of control of the airplane.

(f) Actions and Compliance

For airplanes with an engine mount part number (P/N) XA42-7120-151 installed, unless already done, do the following actions in paragraphs (f)(1) and (2) of this AD.

(1) Before the next acrobatic flight after July 15, 2020 (the effective date of this AD) or before the engine mount accumulates 50 hours time-in-service (TIS), whichever occurs later, and thereafter at intervals not to exceed 10 acrobatic flights, visually inspect the junction of the left-hand and right-hand diagonal struts of the engine mount, forward of the oil cooler, for cracks in the area shown in the photographs in XtremeAir GmbH Mandatory Service Bulletin SB-XA42-2019-008, Issue B.00, dated December 4, 2019. For purposes of this AD, an acrobatic flight is counted for each flight during which a load factor of 6g is exceeded.

(i) If there is a crack, before further flight, replace the engine mount with an airworthy engine mount with zero hours TIS, an engine mount that has passed the inspection required by this AD, or an engine mount that is not P/N XA42-7120-151.

(ii) After completing the initial inspection, begin or continue to count the acrobatic flights and record in the maintenance records.

(2) As of July 15, 2020 (the effective date of this AD), do not install on the airplane an engine mount P/N XA42-7120-151 unless it is an airworthy engine mount with zero hours TIS or is an engine mount that has passed the inspection required by this AD.

(g) Installation Prohibition

For airplanes without engine mount P/N XA42-7120-151 installed, as of July 15, 2020 (the effective date of this AD), do not install engine mount P/N XA42-7120-151.

(h) Alternative Methods of Compliance (AMOCs)

The Manager, Small Airplane Standards Branch, FAA, has the authority to approve AMOCs for this AD, if requested using the procedures found in 14 CFR 39.19. Send information to ATTN: Jim Rutherford, Aerospace Engineer, FAA, Policy and Innovation Divsion, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(i) Special Flight Permit

Special flight permits are prohibited.

(j) Related Information

Refer to MCAI European Union Aviation Safety Agency AD No. 2019-0239R1, dated December 18, 2019, for related information. You may examine the MCAI on the internet at https://www.regulations.gov by searching for and locating Docket No. FAA-2020-0568.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) XtremeAir GmbH Mandatory Service Bulletin SB-XA42-2019-008, Issue B.00, dated December 4, 2019.

(ii) [Reserved]

(3) For XtremeAir GmbH service information identified in this AD, contact XtremeAir GmbH, Harzstrasse 2, Am Flughafen Cochstedt, D-39444 Hecklingen, Germany; phone: +49 39267 60999 0; fax: +49 39267 60999 20; email: info@xtremeair.de; internet: https://www.xtremeair.com.

(4) You may view this service information at the FAA, Airworthiness Products Section, Operational Safety Branch, 901 Locust, Kansas City, Missouri 64106. For information on the availability of this material at the FAA, call (816) 329-4148. It is also available on the internet at https://www.regulations.gov by searching for locating Docket No. FAA-2020-0568.

(5) You may view this service information that is incorporated by reference at the National Archives and Records Administration (NARA). For information on the availability of this material at NARA, email: fedreg.legal@nara.gov, or go to: https://www.archives.gov/federal-register/cfr/ibr-locations.html.

Issued on June 10, 2020.
Lance T. Gant,
Director, Compliance & Airworthiness Division, Aircraft Certification Service.

[FR Doc. 2020-13659 Filed 6-24-20; 8:45 am]

BILLING CODE 4910-13-P